DEPARTMENT OF HEALTH AND HUMAN SERVICES

Substance Abuse and Mental Health Services Administration

Notice of Extension of Receipt Dates and Planned Republication of SAMHSA Grant Announcements SM 04-003, Statewide Consumer Network Grants, and SM 04-004, Statewide Family Network Grants; and Planned Republication of Standing Grant Program Announcements

SUMMARY: The Substance Abuse and Mental Health Services Administration (SAMHSA), for Fiscal Year 2004, published four standard grant announcements, which established mandatory formatting requirements for all applications that would be processed in accordance with the terms of those standing announcements. The standard grant announcements did not directly solicit any applications. Rather, they are to be used in conjunction with Notices of Funding Availability (NOFAs), which solicit applications for specific opportunities pursuant to the standard announcements.

Upon further consideration, SAMHSA believes the formatting requirements common to those announcements, and motivated by SAMHSA's desire to assure equitable opportunity and a “level playing field” to all applicants, will not best serve the public until we revise and republish them. Accordingly, we will quickly revise the identical formatting discussions of all four standing grant program announcements and republish them in their entirety for ease of the users. These formatting requirements are used for preliminary screening out of noncomplying applications in order to assure some applicants do not obtain a competitive advantage through failure to comply. The revised screening criteria will be more lenient, permitting a greater number of applications to be reviewed. We had already solicited applications under two NOFAs, which we will now also revise to address the revised announcements and their interdependent screening requirements.

In accordance with the above considerations, and in order to afford the benefits intended from the republication of the program announcements and NOFAs to those already planning to apply under the two NOFAs identified, SAMHSA hereby notifies the public, and particularly those who planned to apply in response to those NOFAs, that the receipt date for both programs will now be March 31, 2004, and the NOFAs will be republished to reflect the screening revisions and new receipt dates. Since all applications, whenever submitted, will be processed under the revised standards, those applying under either of those NOFAs should await and study the revised documents before submitting their applications. Any applicant who has already applied may request return of the application and by the new receipt date resubmit a revised one, or submit a revised application with a cover letter telling us it is a replacement for one previously submitted.

FOR FURTHER INFORMATION CONTACT: For the CMHS Statewide Consumer Network Grants, Risa Fox, SAMHSA/Center for Mental Health Services, 5600 Fishers Lane, Room 11C-22, Rockville, MD 20857; 301-443-3653; e-mail: rfox@samhsa.gov.

For the CMHS Statewide Family Network Grants, Elizabeth Sweet, SAMHSA/CMHS, Child, Adolescent and Family Branch, Center for Mental Health Services, 5600 Fishers Lane, Room 11C-16, Rockville, MD 20857; 301-443-1333; e-mail: esweet@samhsa.gov. For grants management issues, Kimberly Pendleton, SAMHSA/OPS/DGM, 5600 Fishers Lane, Rockwall II, Room 630, Rockville, MD 20857; 301-443-6133; e-mail: kpendlet@samhsa.gov.

Dated: February 13, 2004.
Daryl Kade,
Director, Office of Policy, Planning and Budget, Substance Abuse and Mental Health Services Administration.

[FR Doc. 04-3765 Filed 2-20-04; 8:45 am]

BILLING CODE 4162-20-P